DEPARTMENT OF COMMERCE

National Oceanic and Atmospheric Administration

50 CFR Part 679

[Docket No. 0811201490-9322-02]

RIN 0648-AX42

Fisheries of the Exclusive Economic Zone Off Alaska; Central Gulf of Alaska Rockfish Program; Amendment 85; Correction

AGENCY: National Marine Fisheries Service (NMFS), National Oceanic and Atmospheric Administration (NOAA), Commerce.

ACTION: Proposed rule; extension of comment period; correction.

SUMMARY: This document corrects an error in the regulatory text of a proposed rule published on April 6, 2009 (74 FR 15420) and extends the proposed rule's comment period by 30 days (from May 21, 2009 to June 22, 2009). The proposed rule would implement Amendment 85 to the Fishery Management Plan for Groundfish of the Gulf of Alaska. The proposed rule would amend the Central Gulf of Alaska Rockfish Program to remove a restriction that prohibits certain catcher/processors from participating in directed groundfish fisheries in the Bering Sea and Aleutian Islands Management Area in July. It incorrectly removes a similar restriction on such vessels participating in directed groundfish fishing in the Gulf of Alaska. This notice corrects the error in the proposed regulatory text. Amendment 85 is necessary to improve flexibility and reduce operating costs for catcher/processors that participate in the Central Gulf of Alaska Rockfish Program.

DATES: Comments must be received by June 22, 2009.

ADDRESSES: Send comments to Sue Salveson, Assistant Regional Administrator, Sustainable Fisheries Division, Alaska Region, NMFS, Attn: Ellen Sebastian. You may submit comments, identified by “RIN 0648-AX42,” by any one of the following methods:

• Electronic Submissions: Submit all electronic public comments via the Federal eRulemaking Portal website at http://www.regulations.gov.

• Mail: P. O. Box 21668, Juneau, AK 99802.

• Fax: 907-586-7557.

• Hand delivery to the Federal Building: 709 West 9th Street, Room 420A, Juneau, AK.

All comments received are a part of the public record and will generally be posted to http://www.regulations.gov without change. All personal identifying information (e.g., name, address) voluntarily submitted by the commenter may be publicly accessible. Do not submit confidential business information or otherwise sensitive or protected information.

NMFS will accept anonymous comments (enter N/A in the required fields if you wish to remain anonymous). Attachments to electronic comments will be accepted in Microsoft Word, Excel, WordPerfect, or Adobe portable document file (pdf) formats only.

Copies of Amendment 85 to the Fishery Management Plan for Groundfish of the Gulf of Alaska, the proposed rule to implement Amendment 85, the Regulatory Impact Review (RIR), the Initial Regulatory Flexibility Analysis (IRFA), the categorical exclusion prepared for this action, and the Environmental Assessment (EA), RIR, and Final Regulatory Flexibility Analysis (FRFA) prepared for the Central Gulf of Alaska Rockfish Program are available from the NMFS Alaska Region at the address above or from the Alaska Region website at http://www.alaskafisheries.noaa.gov.

FOR FURTHER INFORMATION CONTACT: Rachel Baker, 907-586-7228.

SUPPLEMENTARY INFORMATION: The groundfish fisheries in the exclusive economic zone of the Gulf of Alaska (GOA) are managed under the Fishery Management Plan for Groundfish of the Gulf of Alaska (GOA FMP). The North Pacific Fishery Management Council prepared the GOA FMP under the authority of the Magnuson-Stevens Fishery Conservation and Management Act, 16 U.S.C. 1801 et seq. Regulations implementing the GOA FMP appear at 50 CFR part 679. General regulations governing U.S. fisheries also appear at 50 CFR part 600.

NMFS proposed regulations to implement Amendment 85 to the GOA FMP on April 6, 2009 (74 FR 15420). Amendment 85 would amend the Central Gulf of Alaska Rockfish Program (Rockfish Program) to remove a restriction that prohibits certain catcher/processors from participating in directed groundfish fisheries in the Bering Sea and Aleutian Islands (BSAI) in July.

Need for Correction

The regulations at 50 CFR 679.82(g)(3) prohibit certain catcher/processor vessels that participate in the Rockfish Program limited access fishery from participating in GOA and BSAI groundfish fisheries during a specific period of time in July. The proposed regulatory text incorrectly includes a provision to change the period of time that the prohibition against directed fishing in GOA groundfish fisheries is in effect. This incorrect proposed change is inconsistent with Amendment 85 to the GOA FMP. Amendment 85 would not change the prohibition against directed fishing in the GOA groundfish fisheries for certain catcher/processor vessels that participate in the Rockfish Program limited access fishery; it only would remove the prohibition against directed fishing by these vessels in the BSAI. This notice corrects the error in the proposed regulatory text by revising the paragraph (g)(3) to accurately reflect the intent of Amendment 85 and extends the comment period for the proposed rule to implement Amendment 85 to the GOA FMP by 30 days from May 21, 2009 to June 22, 2009.

Correction

In proposed rule FR Doc. E9-7557, published on April 6, 2009 (74 FR 15420) correct the amendment to § 679.82(g)(3) in the third column on page 15428 to read:

“(g) * * *

(3) Prohibition from directed fishing in GOA groundfish fisheries. Except for the rockfish limited access fishery and sablefish harvested under the IFQ Program, a vessel may not participate in any GOA groundfish fishery and adjacent waters open by the State of Alaska for which it adopts the applicable Federal fishing season for that species, from July 1 until 90 percent of the Central GOA Pacific ocean perch that is allocated to the rockfish limited access fishery for the catcher/processor sector has been harvested, if:

(i) The vessel is named on an LLP license used in the rockfish limited access fishery; and

(ii) The vessel has been assigned rockfish QS greater than an amount equal to 5 percent of the Pacific ocean perch rockfish QS allocated to the catcher/processor sector.

”

Dated: May 7, 2009.
Samuel D. Rauch III
Deputy Assistant Administrator for Regulatory Programs, National Marine Fisheries Service.

[FR Doc. E9-11195 Filed 5-12-09; 8:45 am]

BILLING CODE 3510-22-S